DEPARTMENT OF ENERGY

Federal Energy Regulatory Commission

[Docket No. IC01-512-000]

Notice of Proposed Information Collection and Request for Comments

November 14, 2000.

AGENCY: Federal Energy Regulatory Commission, DOE.

ACTION: Notice of proposed information collection and request for comments.

SUMMARY: In compliance with the requirements of Section 3506(c)(2)(a) of the Paperwork Reduction Act of 1995 (Pub. L. No. 104-13), the Federal Energy Regulatory Commission (Commission) is soliciting public comment on the specific aspects of the information collection described below.

DATES: Consideration will be given to comments submitted on or before January 19, 2001.

ADDRESSES: Written comments on the proposed collection of information may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425 and by E-mail at mike. miller@ferc.fed.us.

SUPPLEMENTARY INFORMATION: Abstract: The FERC-512, “Application for Preliminary Permit” (OMB No. 1902-0073) is used by the Commission to implement the statutory provisions of Sections 4(f), 5 and 7 of the Federal Power Act (FPA), 16 U.S.C. Sections 791a et seq. & 3301-3432. The purpose of obtaining a preliminary permit is to maintain priority of the application for a license for a hydroelectric power facility while examining and surveying to prepare maps, plans, specifications and estimates; conducting engineering, economic and environmental feasibility studies; and making financial arrangements. The conditions under which the priority will be maintained are set forth in each permit. During the term of the permit, no other application for a preliminary permit or application for a license submitted by another party can be accepted. The term of a permit is three years. The information collected under the designation FERC-512 is in the form of a written application for a preliminary permit which is used by Commission staff to determine the qualifications of the applicant to hold a preliminary permit, review the proposed hydro development for feasibility and to issue a notice of the application to solicit public and agency comments. The Commission implements these mandatory filing requirements in the Code of Federal Regulations (CFR) under 18 CFR 4.31-.33, 4.81-82.

Action: The Commission is requesting a three-year extension of the current expiration date, with no changes to the existing collection of data.

Burden Statement: Public reporting burden for this collection is estimated as:

Number of respondents (1) | Annual responses per respondent (2) | Average burden hours per response (3) | Total annual burden hours (1)×(2)×(3)
45 | 1 | 73 | 3,285

Estimated cost burden to respondents is $182,186; (i.e., 3,285 hours divided by 2,080 hours per full time employee per year multiplied by $115,357 per year equals $182,186). The cost per respondent is $4,049.

The reporting burden includes the total time, effort, or financial resources expended to generate, maintain, retain, or disclose or provide the information including: (1) Reviewing instructions; (2) developing, acquiring, installing, and utilizing technology and systems for the purposes of collecting, validating, verifying, processing, maintaining, disclosing and providing information; (3) adjusting the existing ways to comply with any previously applicable instructions and requirements; (4) training personnel to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Linwood A. Watson, Jr.,
Acting Secretary.

[FR Doc. 00-29580 Filed 11-17-00; 8:45 am]

BILLING CODE 6717-01-M